DEPARTMENT OF DEFENSE

Office of the Secretary

[Transmittal Nos. 13-76]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-76 with attached transmittal, and policy justification.

Dated: March 12, 2014.
Aaron Siegel,
Alternate OSD Federal Register Liaison Officer, Department of Defense.

BILLING CODE 5001-06-P

BILLING CODE 5001-06-C

Transmittal No. 13-76

Notice of Proposed Issuance of Letter of Offer Pursuant to Section 36(b)(1) of the Arms Export Control Act, as amended

(i) Prospective Purchaser: Pakistan

(ii) Total Estimated Value:

Major Defense Equipment * | $ 0 million.
Other | $100 million.
TOTAL | $100 million.

(iii) Description and Quantity or Quantities of Articles or Services under Consideration for Purchase: C-130B/E avionics upgrades, engine management and mechanical upgrades, cargo delivery system installation, and replacement of outer wing sets on six aircraft. Also included are spare and repair parts, support equipment, publications and technical documentation, personnel training and training equipment, U.S. Government and contractor technical and logistics support services, and other related elements of logistics support.

(iv) Military Department: Air Force (GAH)

(v) Prior Related Cases, if any: N/A

(vi) Sales Commission, Fee, etc., Paid, Offered, or Agreed to be Paid: None

(vii) Sensitivity of Technology Contained in the Defense Article or

Defense Services Proposed to be Sold: None

(viii) Date Report Delivered to Congress: 11 March 2014

* As defined in Section 47(6) of the Arms Export

POLICY JUSTIFICATION

Pakistan—C-130 Fleet Upgrade Program

The Government of Pakistan has requested a possible sale of C-130B/E avionics upgrades, engine management and mechanical upgrades, cargo delivery system installation, and replacement of outer wing sets on six aircraft. Also included are spare and repair parts, support equipment, publications and technical documentation, personnel training and training equipment, U.S. Government and contractor technical and logistics support services, and other related elements of logistics support. The estimated cost is $100 million.

This proposed sale will contribute to the foreign policy and national security of the United States by helping to improve the security of a Major Non-NATO ally which has been, and continues to be, an important force for regional stability and U.S. national security goals in the region.

The proposed sale will facilitate the continued operation of the Pakistan's Air Force C-130 fleet (five C-130B and eleven C-130E models) for counter-insurgency/counter-terrorism flights; regional humanitarian operations; troop transport; and Intelligence, Surveillance, and Reconnaissance (ISR) missions within Pakistan and in the region. The fleet is facing airworthiness and obsolescence issues, and will require upgrades and repairs for continued operation and effectiveness. The proposed modernization of the C-130 fleet should ensure continued viability for an additional 10-15 years.

The proposed sale of this equipment and support will not alter the basic military balance in the region.

The principal contractor is unknown at this time and will be determined through a competitive bid process. There are no known offset agreements in connection with this potential sale.

Implementation of this proposed sale will not require the assignment of any additional U.S. Government or contractor representatives to Pakistan.

There will be no adverse impact on U.S. defense readiness as a result of this proposed sale.

[FR Doc. 2014-05781 Filed 3-14-14; 8:45 am]

BILLING CODE 5001-06-P